FEDERAL COMMUNICATIONS COMMISSION

47 CFR Part 64

[CG Docket No. 03-123; DA 15-1453]

Request for Comment on Petition for Rulemaking Filed by IDT Telecom, Inc., Regarding Interstate Telecommunications Relay Service Fund Contribution

AGENCY: Federal Communications Commission.

ACTION: Proposed rule.

SUMMARY: In this document, the Commission seeks comment on a Petition for Rulemaking (Petition) filed by IDT Telecom, Inc. (IDT) requesting that the Commission issue a Notice of Proposed Rulemaking (NPRM) to review and revise its rules and policies on the contribution methodology for the Interstate Telecommunications Relay Service (TRS) Fund to include intrastate revenue within the TRS Fund contribution base. Additionally IDT requests that the Commission remove the rule provision requiring that video relay service (VRS) costs be recovered from only interstate and international revenue.

DATES: Comments are due February 4, 2016 and reply comments are due February 16, 2016.

ADDRESSES: You may submit comments, identified by CG Docket No. 03-123 by any of the following methods:

• Electronic Filers: Comments may be filed electronically using the Internet by accessing the Commission's Electronic Comment Filing System (ECFS), through the Commission's Web site http://apps.fcc.gov/ecfs/. Filers should follow the instructions provided on the Web site for submitting comments. For ECFS filers, in completing the transmittal screen, filers should include their full name, U.S. Postal service mailing address, and CG Docket No. 03-123.

• Paper filers: Parties who choose to file by paper must file an original and one copy of each filing. If more than one docket or rulemaking number appears in the caption of this proceeding, filers must submit one additional copy for each additional docket or rulemaking number. Filings can be sent by hand or messenger delivery, by commercial overnight courier, or by first-class or overnight U.S. Postal Service mail. All filings must be addressed to the Commission's Secretary, Office of the Secretary, Federal Communications Commission.

For detailed instructions for submitting comments and additional information on the rulemaking process, see the SUPPLEMENTARY INFORMATION section of this document.

FOR FURTHER INFORMATION CONTACT: Gregory Hlibok, Consumer and Governmental Affairs Bureau, Disability Rights Office, (202) 559-5158, email: Gregory.Hlibok@fcc.gov.

SUPPLEMENTARY INFORMATION: Pursuant to 47 CFR 1.415, 1.419, interested parties may file comments and reply comments on or before the dates indicated on the first page of this document.

• Comments may be filed using the Commission's Electronic Comment Filing System (ECFS). See Electronic Filing of Documents in Rulemaking Proceedings, 63 FR 24121 (1998).

• All hand-delivered or messenger-delivered paper filings for the Commission's Secretary must be delivered to FCC Headquarters at 445 12th Street SW., Room TW-A325, Washington, DC 20554. All hand deliveries must be held together with rubber bands or fasteners. Any envelopes must be disposed of before entering the building.

• Commercial Mail sent by overnight mail (other than U.S. Postal Service Express Mail and Priority Mail) must be sent to 9300 East Hampton Drive, Capitol Heights, MD 20743.

• U.S. Postal Service first-class, Express, and Priority mail should be addressed to 445 12th Street SW., Washington, DC 20554.

This is a summary of the Commission's document DA 15-1453, released on December 18, 2015 in CG Docket No. 03-123. The full text of document DA 15-1453, the Petition, and any subsequently filed documents in this matter will be available for public inspection and copying via ECFS, and during regular business hours at the FCC Reference Information Center, Portals II, 445 12th Street SW., Room CY-A257, Washington, DC 20554. Document DA 15-1453 can also be downloaded in Word or Portable Document Format (PDF) at: https://www.fcc.gov/general/disability-rights-office-headlines. To request materials in accessible formats for people with disabilities (Braille, large print, electronic files, audio format), send an email to fcc504@fcc.gov or call the Consumer and Governmental Affairs Bureau at (202) 418-0530 (voice), (202) 418-0432 (TTY).

Initial Paperwork Reduction Act of 1995 Analysis

Document DA 15-1453 does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Synopsis

On November 25, 2015, IDT filed a petition for rulemaking asking the Commission to issue an NPRM to review and revise its rules and policies concerning the contribution methodology for the TRS Fund. IDT asks the commission to implement a contribution methodology that includes intrastate revenue within the TRS Fund contribution base. Additionally, IDT requests that the Commission remove the rule provision that requires VRS costs to be recovered from only interstate and international revenue. IDT asserts that this would greatly increase and strengthen the base of the TRS Fund.

Federal Communications Commission.
Gregory Hlibok,
Chief, Disability Rights Office, Consumer and Governmental Affairs Bureau.

[FR Doc. 2016-00910 Filed 1-19-16; 8:45 am]

BILLING CODE 6712-01-P